OCCUPATIONAL SAFETY AND HEALTH REVIEW COMMISSION

Sunshine Act Meeting

TIME AND DATE: 10:30 a.m. on Thursday, January 11, 2018.

PLACE: The Commission's National Office at One Lafayette Centre, 1120 20th Street NW, 9th Floor, Washington, DC 20036-3457.

STATUS: This oral argument will be open to the public.

MATTERS TO BE CONSIDERED: The Commission will be hearing oral argument in the case of Secretary of Labor v. Kiewit Power Constructors Co., Docket No. 11-2395.

CONTACT PERSON FOR MORE INFORMATION: John X. Cerveny, Executive Secretary, (202) 606-5400.

John X. Cerveny,
Executive Secretary.

[FR Doc. 2018-00143 Filed 1-3-18; 4:15 pm]

BILLING CODE 7600-01-P